DEPARTMENT OF ENERGY

Federal Energy Regulatory Commission

[Docket No. AD19-16-000]

Commission Information Collection Activities (FERC-922); Comment Request

AGENCY: Federal Energy Regulatory Commission.

ACTION: Notice of information collection and request for comments.

SUMMARY: In compliance with the requirements of the Paperwork Reduction Act of 1995, the Federal Energy Regulatory Commission (Commission or FERC) staff is soliciting public comment on the reinstatement and revision of the FERC-922, Performance Metrics for ISOs, RTOs, and Regions Outside ISOs and RTOs.

DATES: Comments on the collection of information are due September 9, 2019.

ADDRESSES: You may submit comments (identified by Docket No. AD19-16-000) by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Darren Sheets may be reached at Darren.Sheets@FERC.gov by email or telephone at (202) 502-8742.

SUPPLEMENTARY INFORMATION: Title: FERC-922, Performance Metrics for ISOs, RTOs, and Regions Outside ISOs and RTOs.

OMB Control No: 1902-0262.¹

¹ The Commission previously had Office of Management and Budget (OMB) approval for the information collection FERC-922 under OMB Control No. 1902-0262. On August 7, 2018, Commission staff requested that OMB discontinue this information collection. OMB approval for the information collection was discontinued on August 31, 2018. Commission staff plans to request authority from OMB to reinstate the information collection FERC-922, with certain revisions, as described in more detail herein. See 44 U.S.C. 3507 (2012).

Type of Request: Reinstatement of the FERC-922 information collection, with revisions.

Abstract: In September 2008, the United States Government Accountability Office (GAO) issued a report recommending that the Commission, among other actions, work with Regional Transmission Organizations (RTOs), Independent System Operators (ISOs), stakeholders, and other experts to develop standardized metrics to track the performance of RTO/ISO operations and markets and publicly report on those metrics.² In accordance with the 2008 GAO Report, Commission staff developed a set of standardized metrics (the Common Metrics), sought and received OMB approval to collect information on those metrics from the RTOs/ISOs, and later non-RTOs/ISOs, and ultimately issued five public reports (Common Metrics Reports).³

² U.S. Gov't Accountability Off., GAO-08-987, Electricity Restructuring: FERC Could Take Additional Steps to Analyze Regional Transmission Organizations' Benefits and Performance (2008) (2008 GAO Report).

³ In 2010 and 2011, Commission staff issued reports authored by the RTOs/ISOs. In 2012, Commission staff issued a report concerning the addition of non-RTO/ISO regions to the common metrics effort. In 2014 and 2016, Commission staff issued reports using aggregated data on the RTO/ISO and non-RTO/ISO regions. For copies of the previous reports, see Federal Energy Regulatory Commission, RTO/ISO Performance Metrics (last updated Aug. 3, 2017), available at http://www.ferc.gov/industries/electric/indus-act/rto/rto-iso-performance.asp (providing links to ISO/RTO Performance Metrics, Docket No. AD10-5-000 (Oct. 21, 2010); Report to Congress on Performance Metrics for Independent System Operators and Regional Transmission Organizations, Docket No. AD10-5-000 (Apr. 2011); Performance Metrics in Regions Outside ISOs and RTOs, Docket No. AD12-8-000 (Oct. 15, 2012); Common Metrics, Docket No. AD14-15-000 (Aug. 26, 2014); and Common Metrics Report, Docket No. AD14-15-000 (Aug. 2016, revised Aug. 2017)).

In December 2017, the GAO issued a report on the RTOs/ISOs with centralized capacity markets.⁴ Among other recommendations, the GAO found that the Commission should take steps to improve the quality of the data collected for its Common Metrics Report, such as implementing improved data quality checks and, where feasible, ensuring RTOs/ISOs are reporting consistent metrics over time by standardizing definitions; and that the Commission should develop and document an approach to regularly identify, assess, and respond to risks that capacity markets face.

⁴ U.S. Gov't Accountability Off., GAO-18-131, Electricity Markets: Four Regions Use Capacity Markets to Help Ensure Adequate Resources, but FERC Has Not Fully Assessed Their Performance, (2017), available at https://www.gao.gov/assets/690/689293.pdf (2017 GAO Report).

In response to the 2017 GAO Report, Commission staff has proposed changes to the Common Metrics information collection. First, Commission staff proposes to improve the data collection process by creating a standardized information collection Input Spreadsheet and an updated, more detailed User Guide, which will provide guidance on completing the information collection, including information about who should respond, the timeline for responses, the metrics being collected, including important definitions and a description of the types of metrics and their structure in the information collection, and how to properly use the reporting form. Also, Commission staff proposes to update the list of Common Metrics to focus on centrally-organized energy markets and capacity markets, which involves adding capacity market metrics. The update also involves the elimination of previously collected metrics on reliability, RTO/ISO billing controls and customer satisfaction, interconnection and transmission processes, and system lambda. Commission staff proposes eliminating these metrics because they provide limited information, are reported publicly elsewhere, or do not significantly help Commission staff or the public draw any conclusions regarding the benefits of an RTO/ISO. The revised data collection, after additions and deletions, consists of 29 Common Metrics.

In addition to eliminating certain metrics and adding new ones, the Common Metrics are now organized into three groups: Group 1 metrics are designed to be collected from all respondents (i.e., all the RTOs/ISOs and non-RTO/ISO utilities). There are seven Group 1 metrics: Reserve Margins, Average Heat Rates, Fuel Diversity, Capacity Factor by Technology Type, Energy Emergency Alerts (EEA Level 1 or Higher), Performance by Technology Type during EEA Level 1 or Higher, and Resource Availability (Equivalent Forced Outage Rate Demand (EFORd)). Group 2 metrics pertain to organized energy markets, and thus are designed to be collected only from respondents with such energy markets (i.e., all the RTOs/ISOs). There are 12 Group 2 metrics: Number and Capacity of Reliability Must-Run Units, Reliability Must-Run Contract Usage, Demand Response Capability, Unit Hours Mitigated, Wholesale Power Costs by Charge Type, Price Cost Markup, Fuel Adjusted Wholesale Energy Price, Energy Market Price Convergence, Congestion Management, Administrative Cost, New Entrant Net Revenues, and Order No. 825 Shortage Intervals and Reserve Price Impacts.⁵ Finally, Group 3, the new metrics, pertain to organized capacity markets, and thus are designed to be collected only from respondents with such capacity markets (i.e., all RTOs/ISOs with capacity markets). There are 10 Group 3 metrics: Net Cost of New Entry (Net CONE) Value, Resource Deliverability, New Capacity (Entry), Capacity Retirement (Exit), Forecasted Demand, Capacity Market Procurement and Prices, Capacity Obligations and Performance Assessment Events, Capacity Eligible for Bonus Payments for Over-Performance, Capacity Facing Penalty Payments for Under-Performance, Total Capacity Bonus Payments and Penalties. A table showing the revised Common Metrics organized by the three groups can be found at the back of this Notice. Also, the updated User Guide for the information collection, and the standardized information collection reporting form are attached to this Notice. These attachments will not be published in the Federal Register, but will be available as part of this notice in the Commission's eLibrary system.

⁵ Settlement Intervals and Shortage Pricing in Markets Operated by Regional Transmission Organizations and Independent System Operators, Order No. 825, 155 FERC 61,276 (2016).

Commission staff has had informal contact with stakeholders about the proposed revisions to the set of Common Metrics, including the proposed revisions to improve the quality of data collected and to enhance the Common Metrics Report with capacity market metrics. Specifically, Commission staff has contacted representatives of the ISO/RTO Council, the Edison Electric Institute, American Wind Energy Association, American Public Power Association, and the Energy Information Administration.

Commission staff has assured itself, by means of internal review, that there is specific, objective support for the burden estimates associated with the information collection requirements.

Estimate of Annual Burden: ⁶ Commission staff expects that respondents will submit information on the Common Metrics every two years. Commission staff will request a three-year approval from OMB, so the voluntary information collection would happen in Years 1 and 3.⁷

⁶ Burden is defined as the total time, effort, or financial resources expended by persons to generate, maintain, retain, or disclose or provide information to or for a Federal agency. For further explanation of what is included in the information collection burden, see 5 CFR 1320.3 (2018).

⁷ The OMB approval is for a maximum of three years.

⁸ See generally Bureau of Labor Statistics, Occupational Employment and Wages, May 2017 (last modified Mar. 30, 2018), available at: Computer Systems Analysts (15-1121) https://www.bls.gov/oes/current/oes151121.htm; Lawyers (23-1011) https://www.bls.gov/oes/current/oes231011.htm; Electrical Engineers (17-2071) https://www.bls.gov/oes/current/oes172071.htm; Economists (19-3011) https://www.bls.gov/oes/current/oes193011.htm; Chief Executives (11-1011) https://www.bls.gov/oes/current/oes111011.htm. See Bureau of Labor Statistics, Employer Costs for Employee Compensation, News Release USDL-18-1941 (Dec. 14, 2018), available at https://www.bls.gov/news.release/ecec.nr0.htm. Those hourly wages (plus benefits) are: $107.61 for the Metrics Data Collection and Write Performance Analysis categories, and $122.81 for the Management Review component which is solely based on the Chief Executive wage rates.

The following table sets forth the estimated annual burden and cost ⁸ for this information collection:

BILLING CODE 2019-14669-P

BILLING CODE 2019-14669-C

Explanation of the Table: The Number of Respondents (1) in the first column varies by Group, as all respondents do not provide information on each of the 29 Common Metrics. Commission staff has estimated the number of respondents for the first three Groups based on the assumption that the six jurisdictional RTOs/ISOs and the five non-RTO/ISO utilities (11 total respondents) that previously responded to the FERC-922 information collection will provide responses to this revised FERC-922 information collection. Therefore, the estimated number of respondents in Group 1 is 11, because all respondents report on the Group 1 metrics. The estimated number of respondents for Group 2 is six, because only the jurisdictional RTOs/ISOs with energy markets respond to the Group 2 metrics. Likewise, the estimated number of respondents in Group 3 is four, because only the jurisdictional RTOs/ISOs with capacity markets respond to the Group 3 metrics. Finally, the table includes a burden estimate for potential new respondents. As all the jurisdictional RTOs/ISOs previously responded to FERC-922, any potential new respondent would be a utility in a non-RTO/ISO region, and thus would only be submitting responses to the Group 1 metrics, but for the first time. Commission staff conservatively estimates that, at most, one new non-RTO/ISO utility will respond to this revised FERC-922 information collection.

The second column, Number of Responses in Years 1 & 3 (2) is characterized by the number of Balancing Authority Areas (BAAs) each respondent would be reporting on, as the respondent would provide a response to each metric for each of its BAAs. Each RTO/ISO is a single BAA and therefore will only provide responses to each metric for one BAA, but utilities in the non-RTO/ISO regions that previously responded have reported metrics for more than one BAA (for instance, Duke Energy has multiple BAAs outside of RTOs/ISOs and filed metrics for each BAA in the previous information collection). Therefore, the estimated number of responses for Group 1 (all RTOs/ISOs and non-RTO/ISO utilities) is the number of BAAs in the RTOs/ISOs, i.e., six, plus the number of non-RTO/ISO BAAs i.e., 10, which equals 16 total responses. The estimated number of responses for Group 2 (all RTOs/ISOs with energy markets) is the same as the number of respondents, i.e., six, as only the RTOs/ISOs respond and they each only have one BAA. The estimated number of responses for Group 3 (all RTOs/ISOs with capacity markets) is the same as the number of respondents, i.e., four, as only the four RTOs/ISOs with capacity markets respond and they each only have one BAA. Finally, there is only estimated to be one non-RTO/ISO utility as a potential new respondent, who would only be responding to the Group 1 metrics that apply to all respondents.

The Annual Frequency of Filings (3) is 0.67 for all groups. This fraction reflects that there will be two information collections or one each during Years 1 and 3 of the three-year OMB authorization period, so ⅔ or 0.67 is the adjustment to reflect a yearly value for the burden.

The Total Number of Annual Responses (4) is the product of the second column, Number of Responses in Years 1 and 3 (2), multiplied by the third, the Annual Frequency of Filings (3). Thus for the first group, this value is 16 × 0.67 or 10.72.

The Estimated Burden Hours per Response (5) reflects the total number of estimated burden hours, separated into the three reporting categories (collect, write, review) for all four groups of respondents. The total estimated burden hours for the first three groups of respondents are the same as the previous FERC-922 information collection burden estimates, 401 hours. An increased estimate of the burden hours, 427 hours, is for Potential New Respondents, in recognition of the fact that the burden on a new respondent is likely higher. The number of hours in each reporting category has been adjusted in this collection, as compared to the previous FERC-922 collection burden estimate, to reflect less emphasis on the writing category, as Commission staff has developed a structured data collection tool which will decrease the amount of written text that respondents will provide in the information collection.⁹

⁹ The estimated hours per response has increased for: (a) Metrics Data Collection component to 271 hours (from 229 hours), and (b) Management Review component to 60 hours (from 33 hours). The estimated hours per response for Write Performance Analysis has decreased to 70 hours (from 139 hours).

The Estimated Cost per Response (6) is the product of the three variables: The Estimated Burden Hours per Response (5) for a category, multiplied by the labor rate (for wages plus benefits) for each category (which is not shown in the table), multiplied by the proportion of total hours attributable to this Group, to report on a category, e.g., the number of metrics in that Group divided by the total number of metrics (also not shown in table). An example in the first row is that for Group 1, Metrics Data Collection category, the $7,039 is the product of 271 hours in column (5) multiplied by the weighted average labor rate for that category ($107.61) multiplied by 0.242 (the ratio of metrics in the first Group, seven, to the total number of metrics, 29 or 7 ÷ 29). This fraction is not displayed in the table.¹⁰

¹⁰ The fraction for Group 1 and the Potential New Respondents is 0.242 (the seven metrics in the first Group divided by the total number of metrics, 29); for Group 2 the fraction is 0.414 (12 divided by 29); for Group 3 the fraction is 0.345 (10 divided by 29).

The Estimated Total Annual Burden Hours (7) is the product of the Total Number of Annual Responses (4) times the Estimated Burden Hours per Response (5). For the first row of the first group this value is 2,905 hours = 10.72 × 271 hours.

Finally, the Estimated Total Annual Cost (8) reflects the total burden to the industry and is calculated by multiplying the Total Number of Annual Responses (4) times the Estimated Cost per Response (6) for each category for all groups and produces an estimated total cost in the last row of the table. The wage rates utilized in this burden estimate have been updated to recent Bureau of Labor Statistics estimates for the same categories as used in the prior burden estimates for the FERC-922 information collection (i.e., Computer Systems Analysts, Lawyers, Electrical Engineers, Economists, and the category Chief Executive). Wage estimates use the 90th percentile wage from the recent Bureau of Labor Employees Benefit Survey, adjusted upward for the private industry benefits of 30.3 percent, and are a weighted average of those categories.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology. Further, Commission staff requests comments on whether the proposed metrics (attached) will effectively track the performance of the RTO/ISO energy and capacity markets and the administrative and market functions that are common to the RTOs/ISOs and the individual utilities in non-RTO/ISO regions.

Dated: July 3, 2019.
Kimberly D. Bose,
Secretary.

[FR Doc. 2019-14669 Filed 7-9-19; 8:45 am]

BILLING CODE 6717-01-P